STATE JUSTICE INSTITUTE

SJI Board of Directors Meeting, Notice

AGENCY: State Justice Institute.

ACTION: Notice of meeting.

SUMMARY: The SJI Board of Directors will be meeting on Monday, December 6, 2021 at 1:00 p.m. ET. The purpose of this meeting is to consider grant applications for the 1st quarter of FY 2022, and other business.

FOR FURTHER INFORMATION CONTACT: Jonathan Mattiello, Executive Director, State Justice Institute, 12700 Fair Lakes Circle, Suite 340, Fairfax, VA 22033, 703-660-4979, contact@sji.gov.

Authority: 42 U.S.C. 10702(f).

Jonathan D. Mattiello,
Executive Director.

[FR Doc. 2021-26206 Filed 12-1-21; 8:45 am]

BILLING CODE 6820-SC-P